DEPARTMENT OF HEALTH AND HUMAN SERVICES

National Institutes of Health

National Institute of Child Health and Human Development; Proposed Collection; Comment Request; Health Behaviors in School-Age Children

SUMMARY: In compliance with the requirement of Section 3506(c)(2)(A) of the Paperwork Reduction Act of 1995, for opportunity for public comment on proposed data collection projects, the National Institute of Child Health and Human Development (NICHD), the National Institutes of Health (NIH) will publish periodic summaries of proposed projects to be submitted to the Office of Management and Budget (OMB) for review and approval.

Proposed Collection

Title: Health Behaviors in School-Age Children—United States.

Type of Information Collection Request: Extension OMB control number 0925-0557, expiration date 01/31/09.

Need and Use of Information Collection: The goal of this research is to obtain data from a survey of adolescent health behavior conducted in the United States with a national probability sample of adolescents. This information will enable the improvement of health services and programs for youth. The study should provide needed information about adolescents nationally and will also enable international comparisons.

This U.S. survey is linked to the broader Health Behaviors in School-Age Children (HBSC) study, in which surveys are conducted every four years among nationally representative samples of students at ages 11, 13, and 15 years of age in about 40 countries. The HBSC was conducted in the U.S. previously in 1997/1998, 2001/2002 and 2005/2006. Previous HBSC-U.S. surveys showed that U.S. 15-year-old youth are less likely to smoke than students in most other countries surveyed, even though 11-year-old U.S. students experiment with tobacco at higher rates than youth in other countries. The most recent survey demonstrated that U.S. youth are more likely to be overweight and obese than students in the other HBSC countries and more likely to be dieting to lose weight. U.S. eating habits were also shown to be somewhat less healthful than in other countries, with a comparatively high proportion of youth consuming sugar-sweetened soft drinks and among the lowest proportions of youth eating breakfast. The 2009/2010 U.S. survey will address a sample of health-related factors according to rigorous research protocols developed by the HBSC. The international HBSC survey requires at least 1,536 youth in each age group (ages 11, 13, and 15) and a total of 5,000 students. In the U.S., a nationally representative sample of children in grades 6 through 10 will be surveyed and minority children will be over-sampled to permit comparisons across under-represented populations. The children will be students from approximately 420 schools; in order to assess health programs in those schools and how the school environment supports health behaviors, a school administrator and the lead health education teacher from each school will be surveyed.

Affected Public: School-age children.

Type of respondents | Estimated number of respondents | Estimated number of responses per respondent | Average burden hours per response | Estimated total annual burden hours requested
Adolescents | 14,672 | 1 | 0.75 | 11,004
School Administrators | 386 | 1 | 0.33 | 127

The estimated annualized cost to respondents is $5,392. There are no Capital Costs to report. There are no Operating or Maintenance Costs to report.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to minimize the burden of the collection of information on those who are to respond, including the use of appropriate automated, electronic, mechanical, or other technological collection techniques or other forms of information technology.

FOR FURTHER INFORMATION CONTACT: To request more information on the proposed project or to obtain a copy of the data collection plans and instruments, contact Dr. Ronald Iannotti, Prevention Research Branch, Division of Epidemiology, Statistics, and Prevention Research, Eunice Kennedy Shriver National Institute of Child Health and Human Development, Building 6100, 7B05, 9000 Rockville Pike, Bethesda, Maryland, 20892-7510, or call non-toll free number (301) 435-6951 or E-mail your request, including your address to ri25j@nih.gov.

Comments Due Date: Comments regarding this information collection are best assured of having their full effect if received within 60 days of the date of this publication.

Dated: September 3, 2008.
Paul L. Johnson,
Project Clearance Liaison, NICHD, National Institutes of Health.

[FR Doc. E8-21327 Filed 9-11-08; 8:45 am]

BILLING CODE 4140-01-P